DEPARTMENT OF EDUCATION

Applications for New Awards; Technical Assistance and Dissemination To Improve Services and Results for Children With Disabilities—Technical Assistance Center on Positive Social, Emotional, and Behavioral Outcomes for Young Children With, and At Risk for, Developmental Delays or Disabilities

AGENCY: Office of Special Education and Rehabilitative Services, Department of Education.

ACTION: Notice.

SUMMARY: The Department of Education (Department) is issuing a notice inviting applications for new awards for fiscal year (FY) 2022 for a Technical Assistance Center on Positive Social, Emotional, and Behavioral Outcomes for Young Children with, and At Risk for, Developmental Delays or Disabilities, Assistance Listing Number 84.326B. This notice relates to the approved information collection under OMB control number 1820-0028.

DATES:

Applications Available: January 20, 2022.

Deadline for Transmittal of Applications: March 21, 2022.

Deadline for Intergovernmental Review: May 20, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Sunyoung Ahn, U.S. Department of Education, 400 Maryland Avenue SW, Room 5012A, Potomac Center Plaza, Washington, DC 20202-5076. Telephone: (202) 245-6460. Email: Sunyoung.Ahn@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: This competition includes one absolute priority. In accordance with 34 CFR 75.105(b)(2)(v), this priority is from allowable activities specified in the statute (see sections 663 and 681(d) of the Individuals with Disabilities Education Act (IDEA); 20 U.S.C. 1463 and 1481(d)).

Absolute Priority: For FY 2022 and any subsequent year in which we make awards from the list of unfunded applications from this competition, this priority is an absolute priority. Under 34 CFR 75.105(c)(3), we consider only applications that meet this priority.

This priority is:

Technical Assistance Center on Positive Social, Emotional, and Behavioral Outcomes for Young Children with, and At Risk for, Developmental Delays or Disabilities.

Background

The beginning years of a child's life are critical for building the early foundation of learning, health, and wellness. Responsive relationships and high-quality early care and education experiences are central to promoting young children's social, emotional, and behavioral competence, which can lead to more success in school, relationships, and life (Campbell et al., 2016; Jones et al., 2015). However, early childhood systems and programs that serve infants, toddlers, and preschool children (young children) with, and at risk for, developmental delays or disabilities have struggled to systematically promote social, emotional, and behavioral competence and address behavioral challenges. According to a recent survey (Smith et al., 2020), there is great variation in the capacity of State IDEA Part C programs to identify and meet the needs of infants and toddlers who have social-emotional delays, mental health conditions, or circumstances that put them at high risk of developing these difficulties. Most States report a shortage of qualified personnel who can provide services or provide training on evidence-based models that support young children's social, emotional, and behavioral development. In classroom settings, early childhood personnel frequently report that coping with challenging behavior is their most pressing training need and presents a barrier to including young children with disabilities into programs with their typically developing peers (Brock & Beaman-Diglia, 2018; Snell et al., 2012).

The well-documented, and troubling, data on preschool expulsion and suspension as well as its disproportionate application highlights the need for early childhood personnel to build competencies on how to equitably support young children's social, emotional, and behavior development. Early research by Gilliam (2005) showed that the rate of expulsion from State-funded pre-K programs was three times higher than that for K-12 programs. Later studies bolster these initial findings and demonstrate that suspension and expulsion from early education disproportionately affect young boys of color (Gilliam & Reyes, 2018; Malik, 2017; Meek & Gilliam, 2016).

The COVID-19 pandemic has highlighted the need to improve the capacity of early childhood personnel and programs to promote young children's social, emotional, and behavioral competence. The pandemic is exposing many young children to added stressors, including reduced connection with peers, loss of family or community members, financial insecurity, or exacerbated physical or mental health needs of family members. Parents of young children with disabilities reported being more concerned about their children's behavior, development, and learning; and feeling more anxious and depressed during the pandemic (Center for Translational Neuroscience, 2020). Studies indicate that the COVID-19 pandemic's social distancing restrictions have prompted a surge in the mental health needs of children (West et al., 2021). Children of color are especially subject to significant stressors during the pandemic (Robles-Ramamurthy et al., 2021); however, they and their families have been less likely than their White counterparts to receive care or have access to services, placing them in an especially vulnerable position for social, emotional, and behavioral challenges (Stephenson, 2021). Because of these stressors, the President's Executive Order 14000, Supporting the Reopening and Continuing Operation of Schools and Early Childhood Education Providers (86 FR 7215) identified the need for “trauma-informed care, and behavioral and mental health support,” and the “promotion of mental health and social-emotional well-being” in early childhood programs.

Meeting young children's social, emotional, and behavioral needs requires a multi-faceted and multi-tiered approach. There is growing evidence that a multi-tiered system of support ¹ (MTSS) can yield positive outcomes in early childhood learning and social, emotional, and behavioral development (Blair et al., 2010; Hebbeler & Spiker, 2016; Sanford & Horner, 2013; Wackerle-Hollman et al., 2021). One of the foundational premises of MTSS is inclusive, high-quality instruction in general education settings or a child's natural environments (Hebbeler & Spiker, 2016). The flexible, tiered structure of an MTSS framework can allow early childhood personnel and system leaders to integrate intervention and support components based on the program's needs and resources (Wackerle-Hollman et al., 2021) and ensure access, participation, and support for all young children in an early childhood program. Recently, there has been an effort to integrate trauma-informed ² approaches within MTSS frameworks to better support children's social, emotional, and behavioral development (Eber et al., 2020; National Center for Pyramid Model Innovations, 2021; Ormiston et al., 2021). To leverage the flexibility and inclusiveness of an MTSS framework, and to embed necessary trauma-informed supports for young children and their families, States and local early childhood systems and programs need to understand the key features of an MTSS framework and the supports needed to implement, scale-up, and sustain it. This includes building collaborative partnerships with community resources, including social service and health systems, to integrate necessary services within early childhood programs and scale-up and sustain effective practices.

¹ For the purpose of this priority, “multi-tiered system of supports (MTSS)” is a way to provide high-quality teaching and responsive caregiving through the delivery of differentiated support for all young children. Four key practices in an early childhood MTSS include: (a) Universal screening to determine which children may need additional services or supports, (b) differentiation of child goals or outcomes to clarify what individual skills children need to focus on, (c) tiered instruction or interventions to meet children's need, and (d) ongoing progress monitoring to adjust instruction as needed (Division of Early Childhood, 2021).

² For the purpose of this priority, “trauma-informed” means a program, organization, or system realizes the widespread impact of trauma and understands potential paths for recovery; recognizes the signs and symptoms of trauma in clients, families, staff, and others involved with the system; and responds by fully integrating knowledge about trauma into policies, procedures, and practices, and seeks to actively resist retraumatization (Substance Abuse and Mental Health Services Administration, 2014).

The absolute priority is designed to accomplish these objectives. It is also aligned to the Secretary's priorities published in the Federal Register on December 10, 2021 (86 FR 70612) in the area of meeting student social, emotional, and academic needs.

Priority

The purpose of this priority is to fund a cooperative agreement to establish and operate a Technical Assistance Center on Positive Social, Emotional, and Behavioral Outcomes for Young Children with, and At Risk for, Developmental Delays or Disabilities. The Center will improve State and local capacity to implement, scale-up, and sustain effective practices and policies to equitably support the social, emotional, and behavioral development of young children with, and at risk for, developmental delays or disabilities.

The Center must achieve, at a minimum, the following expected outcomes:

(a) Increased knowledge base on effective practices within, and implementation supports for, the equitable implementation of an early childhood MTSS framework that integrates necessary educational, social, and mental health services through partnerships and collaboration with community resources; supports the inclusion of young children with disabilities across various settings; promotes family engagement; and embeds trauma-informed and culturally and linguistically responsive practices to promote positive and equitable social, emotional, and behavioral outcomes for all young children, including children of color, with, and at risk for, developmental delays or disabilities;

(b) Improved State infrastructures to support the capacity of local early childhood programs and personnel to implement, scale-up, and sustain the MTSS framework to equitably improve the social, emotional, and behavioral outcomes of all young children with, and at risk for, developmental delays or disabilities and eliminate inappropriate, disproportionate, exclusionary, and ineffective discipline practices, such as suspension, expulsion, and seclusion and the inappropriate use of restraint that disproportionately impacts children of color and young children with disabilities.

(c) Increased capacity of State and local early childhood programs to develop policies and implement practices to address factors that influence disparities in early childhood social, emotional, and behavioral outcomes, including, but not limited to, equitable access to services and supports for young children and families; impacts of adverse childhood experiences, toxic stress, and trauma on young children and families; and inappropriate and disproportionate discipline practices; and

(d) Improved capacity of State and local early childhood programs to collect and use data to measure progress towards meeting social, emotional, and behavioral outcomes of young children with, and at risk for, developmental delays or disabilities at the child and program levels, and identifying any disparities across race, ethnicity, home language, and income levels within the data.

In addition to these programmatic requirements, to be considered for funding under this priority, applicants must meet the application and administrative requirements in this priority, which are:

(a) Demonstrate, in the narrative section of the application under “Significance,” how the proposed project will—

(1) Address the current and emerging needs of States, early childhood programs, and personnel to improve the social, emotional, and behavioral outcomes of all young children with, and at risk for, developmental delays or disabilities through the implementation of an early childhood MTSS framework. To meet this requirement, the applicant must—

(i) Present applicable national or State data demonstrating the need to improve positive social, emotional, and behavioral outcomes for all young children with, and at risk for, developmental delays or disabilities, and the needs of States, early childhood programs, and personnel in equitably implementing an early childhood MTSS framework focused on social, emotional, and behavioral development;

(ii) Demonstrate knowledge of the current capacity of personnel to implement family engagement, trauma-informed, and culturally and linguistically responsive practices to promote positive and equitable social, emotional, and behavioral outcomes for all young children with, and at risk for, developmental delays or disabilities;

(iii) Demonstrate knowledge of current educational issues and policy initiatives relating to—

(A) Implementing and sustaining an early childhood MTSS framework that promotes positive and equitable social, emotional, and behavioral outcomes for all young children with, and at risk for, developmental delays or disabilities across early childhood systems and programs, including IDEA Part C and Part B, section 619, Head Start and Early Head Start, child care, and public preschool;

(B) Reducing disparities in early childhood social, emotional, and behavioral outcomes, including through eliminating inappropriate and ineffective discipline practices, such as suspension, expulsion, and seclusion and the inappropriate use of restraint that disproportionately impacts children of color and young children with disabilities;

(C) Increasing inclusive opportunities for young children with, and at risk for, developmental delays or disabilities; and

(D) Providing equitable access to educational, social, and mental health services to young children and families to promote the social, emotional, and behavioral outcomes of young children with, and at risk for, developmental delays or disabilities and the intersection of these services; and

(iv) Present information about the current level of State and local implementation of—

(A) Early childhood MTSS frameworks focused on social, emotional, and behavioral development across early childhood systems and programs, including IDEA Part C and Part B, section 619, Head Start and Early Head Start, child care, and public preschool programs;

(B) Policies and practices to reduce disparities in early childhood social, emotional, and behavioral outcomes, including through eliminating inappropriate and inequitable discipline practices, including suspension, expulsion, and seclusion, and the inappropriate use of restraint in early childhood programs;

(C) Activities to measure changes in social, emotional, and behavioral outcomes at the child and program levels and make data-based decisions to inform more equitable practices and policies; and

(D) Activities to support scaling-up and sustaining effective practices to improve social, emotional, and behavioral outcomes for young children with, and at risk for, developmental delays or disabilities through key implementation drivers, including comprehensive preservice preparation, professional development and support, family engagement and support, and policy changes; and

(2) Improve State and local capacity to implement, scale-up, and sustain effective practices and policies to equitably support the social, emotional, and behavioral development of young children with, and at risk for, developmental delays or disabilities, and indicate the likely magnitude or importance of the improvements.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients of the grant;

(2) Achieve its goals, objectives, and intended outcomes. To meet this requirement, the applicant must provide—

(i) Measurable intended project outcomes; and

(ii) In Appendix A, the logic model ³ (as defined in 34 CFR 77.1) by which the proposed project will achieve its intended outcomes that depicts, at a minimum, the goals, activities, outputs, and intended outcomes of the proposed project;

³ Logic model (34 CFR 77.1) (also referred to as a theory of action) means a framework that identifies key project components of the proposed project (i.e., the active “ingredients” that are hypothesized to be critical to achieving the relevant outcomes) and describes the theoretical and operational relationships among the key project components and relevant outcomes.

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/resources-grantees/program-areas/ta-ta/tad-project-logic-model-and-conceptual-framework; https://osepideasthatwork.org/evaluation?tab=eval-logic; and https://ies.ed.gov/ncee/edlabs/regions/central/pdf/REL_2021112.pdf.

(4) Be based on current research and make use of evidence-based practices (EBPs).⁴ To meet this requirement, the applicant must describe—

⁴ For the purposes of this priority, “evidence-based practices” means practices that, at a minimum, demonstrate a rationale (as defined in 34 CFR 77.1), where a key project component included in the project's logic model is informed by research or evaluation findings that suggest the project component is likely to improve relevant outcomes.

(i) The current research on effective and equitable early childhood MTSS frameworks that promote positive social, emotional, and behavioral outcomes; family engagement, trauma-informed, and culturally and linguistically responsive practices to support young children's social, emotional, and behavioral outcomes; service integration across education, social services, and health systems; systems change; and capacity building;

(ii) The current research about adult learning principles and implementation science that will inform the proposed TA; and

(iii) How the proposed project will incorporate current research and practices in the development and delivery of its products and services;

(5) Develop products and provide services that are of high quality and sufficient intensity and duration to achieve the intended outcomes of the proposed project. To address this requirement, the applicant must describe—

(i) How it proposes to identify or develop the knowledge base on effective practices within, and implementation supports for, an early childhood MTSS framework focused on social, emotional, and behavioral development across early childhood settings that—

(A) Integrates effective educational, social and mental health services to support equitable access to needed services for young children with, and at risk for, developmental delays or disabilities and their families;

(B) Promotes family engagement and supports, including those for families that have been traditionally underrepresented;

(C) Embeds trauma-informed and culturally and linguistically responsive practices to promote positive and equitable social, emotional, and behavioral outcomes for all young children with, and at risk for, developmental delays or disabilities;

(D) Increases the inclusion of young children with disabilities in early childhood programs;

(E) Reduces disparities in early childhood social, emotional, and behavioral outcomes, including through eliminating the use of inappropriate, disproportionate, exclusionary, and ineffective discipline practices in early childhood programs;

(F) Allows for the collection and use of data to inform decision-making and identify disparities in social, emotional, and behavioral outcomes; and

(G) Supports scaling-up and sustaining effective practices through key implementation drivers, such as preservice preparation, professional development and staffing support, family engagement and support, systems change, and policy changes;

(ii) Its proposed approach to universal, general TA,⁵ which must identify the intended recipients, including the type and number of recipients, that will receive the products and services, a description of the products and services that the Center proposes to make available, and the expected impact of those products and services under this approach. At minimum, the approach should include activities focused on—

⁵ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(A) Identifying and developing resources and materials to increase the awareness of the benefits of implementing, scaling-up, and sustaining an early childhood MTSS framework focused on social, emotional, and behavioral development across early childhood systems and programs, and the importance of developing policies and practices to reduce disparities in early childhood social, emotional, and behavioral outcomes; and

(B) Identifying and developing materials, resources, and tools to help States, local early childhood programs, and providers increase their knowledge of an MTSS framework and implement effective policies and practices to support positive and equitable social, emotional, and behavioral outcomes for all young children with, or at risk for, developmental delays or disabilities;

(iii) Its proposed approach to targeted, specialized TA,⁶ which must identify—

⁶ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of the products and services that the Center proposes to make available, and the expected impact of those products and services under this approach;

(B) Its proposed approach to measure the readiness of potential TA recipients to work with the project, assessing, at a minimum, their current infrastructure, available resources, and ability to build capacity at the local level;

(C) The process by which the proposed project will collaborate with other federally funded TA centers, including those funded by OSEP and the Department of Health and Human Services (HHS), that are focused on supporting the social, emotional, and behavioral development of young children with, and at risk for, developmental delays or disabilities across various early childhood systems and programs; and

(D) Its proposed approach to increasing the engagement and leadership of State IDEA Part C and Part B, section 619 coordinators to collaborate with other early childhood State leaders to develop and implement policies and practices that address factors that influence disparities in early childhood social, emotional, and behavioral outcomes, including, but not limited to, eliminating the use of inappropriate, disproportionate, exclusionary, and ineffective discipline practices in early childhood programs and supporting equitable access to needed services and supports.

(iv) Its proposed approach to intensive, sustained TA,⁷ which must identify—

⁷ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the services, a description of the services that the Center proposes to make available, and the expected impact of those services under this approach;

(B) Its proposed approach to measure the readiness of potential TA recipients to work with the project, assessing, at a minimum, their commitment to the initiative, alignment of the initiative to their needs, current infrastructure, available resources, and ability to build capacity within at the local level;

(C) Its proposed plan for assisting State early childhood systems to build or enhance professional development systems, including by engaging key preservice preparation programs and in-service professional development providers;

(D) Its proposed plan for working across early childhood, social service, and health systems to ensure that there are processes in place to support the implementation of an early childhood MTSS framework that integrates necessary educational, social, and mental health services to promote young children's social, emotional, and behavioral development; and

(E) The process by which the proposed project will ensure the use of effective TA practices and continuously evaluate the practices to improve the delivery of TA; and

(v) How the proposed project will use non-project resources to achieve the intended project outcomes.

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes; and

(7) Develop a dissemination plan that describes how the applicant will systematically distribute information, products, and services to varied intended audiences, using a variety of dissemination strategies, to promote awareness and use of the Center's products and services.

(c) In the narrative section of the application under “Quality of the project evaluation,” include an evaluation plan for the project developed in consultation with and implemented by a third-party evaluator.⁸ The evaluation plan must—

⁸ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions should be related to the project's proposed logic model required in paragraph (b)(2)(ii) of the application and administrative requirements in this priority;

(2) Describe how progress in and fidelity of implementation, as well as project outcomes will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation, and include staff assignments for completing the plan. The timeline must indicate that the data will be available annually for the annual performance report (APR) and at the end of Year 2 for the review process described under the heading, Fourth and Fifth Years of the Project;

(5) Dedicate sufficient funds in each budget year to cover the costs of developing or refining the evaluation plan in consultation with a “third-party” evaluator, as well as the costs associated with the implementation of the evaluation plan by the third-party evaluator.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, including racially, ethnically, and linguistically diverse families, early childhood educators, early intervention and early childhood special educators, administrators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, or virtually, after receipt of the award, and an annual planning meeting in Washington, DC, or virtually, with the OSEP project officer and other relevant staff during each subsequent year of the project period.

Note: Within 30 days of receipt of the award, a post-award teleconference must be held between the OSEP project officer and the grantee's project director or other authorized representative;

(ii) A two and one-half day project directors' conference in Washington, DC, or virtually, during each year of the project period;

(iii) Two annual two-day trips, or virtually, to attend Department briefings, Department-sponsored conferences, and other meetings, as requested by OSEP; and

(iv) A one-day intensive 3+2 review meeting in Washington, DC, or virtually, during the second year of the project period;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Engage doctoral students or post-doctoral fellows in the project to increase future leaders in the field who are knowledgeable on how to implement, scale-up, and sustain an MTSS framework focused on social, emotional, and behavioral development; and culturally responsive practices and policies that support positive and equitable social, emotional, and behavioral outcomes for young children with, and at risk for, developmental delays or disabilities;

(5) Maintain a high-quality website, with an easy-to-navigate design, that meets government or industry- recognized standards for accessibility;

(6) Ensure that annual project progress toward meeting project goals is posted on the project website; and

(7) Include, in Appendix A, an assurance to assist OSEP with the transfer of pertinent resources and products and to maintain the continuity of services to States during the transition to a new award at the end of this award period, as appropriate.

Fourth and Fifth Years of the Project

In deciding whether to continue funding the project for the fourth and fifth years, the Secretary will, under 34 CFR 75.253(a), consider certain requirements, including—

(a) The recommendations of a 3+2 review team consisting of experts selected by the Secretary. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

References

Blair, K.S.C., Fox, L., & Lentini, R. (2010). Use of positive behavior support to address the challenging behavior of young children within a community early childhood program. Topics in Early Childhood Special Education, 30(2), 68-79.

Brock, M.E., & Beaman-Diglia, L.E. (2018). Efficacy of coaching preschool teachers to manage challenging behavior. Education and Treatment of Children, 41(1), 31-48.

Campbell, S.B., Denham, S.A., Howarth, G.Z., Jones, S.M., Whittaker, J.V., Williford, A.P., Willoughby, M.T., Yudron, M., & Darling-Churchill, K. (2016). Commentary on the review of measures of early childhood social and emotional development: Conceptualization, critique, and recommendations. Journal of Applied Developmental Psychology, 45, 19-41.

Center for Translational Neuroscience. (2020). Overloaded: Families with children who have special needs are bearing an especially heavy weight, and support is needed. University of Oregon. https://medium.com/rapid-ec-project/overloaded-families-with-children-who-have-special-needs-are-bearing-an-especially-heavy-weight-4e613a7681bd.

Division for Early Childhood. (2021). New position statement: Multitiered system of support framework in early childhood. www.decdocs.org/position-statement-mtss.

Eber, L., Barrett, S., Scheel, N., Flammini, A., & Pohlman, K. (2020). Integrating a trauma-informed approach within a PBIS framework. Center on Positive Behavioral Interventions and Supports, University of Oregon. www.pbis.org/resource/integrating-a-trauma-informed-approach-within-a-pbis-framework.

Exec. Order No. 14000, 86 FR 7215 (7215-7218). www.govinfo.gov/content/pkg/FR-2021-01-26/pdf/2021-01864.pdf.

Gilliam, W.S. (2005). Prekindergarteners left behind: Expulsion rates in state prekindergarten systems. Foundation for Child Development. www.researchgate.net/publication/228701481_Prekindergarteners_Left_Behind_Expulsion_Rates_in_State_Prekindergarten_Systems.

Gilliam, W.S., & Reyes, C.R. (2018). Teacher decision factors that lead to preschool expulsion: Scale development and preliminary validation of the preschool expulsion risk measure. Infants & Young Children, 31(2), 93-108.

Hebbeler, K., & Spiker, D. (2016). Supporting young children with disabilities. The future of children, 185-205. https://files.eric.ed.gov/fulltext/EJ1118562.pdf.

Jones, D.E., Greenberg, M, & Crowley, M. (2015). Early social-emotional functioning and public health: The relationship between kindergarten social competence and future wellness. American Journal of Public Health, 105(11), 2283-2290.

Malik, R. (2017). New data reveal 250 preschoolers are suspended or expelled every day. Center for American Progress, 17, 2018.

Meek, S.E., & Gilliam, W.S. (2016). Expulsion and suspension in early education as matters of social justice and health equity [Discussion paper]. NAM Perspectives, 6(10). National Academy of Medicine. https://doi.org/10.31478/201610e.

National Center for Pyramid Model Innovations. (2020). Trauma-informed care and the Pyramid Model for promoting social and emotional competence in infants and young children. University of South Florida. https://challengingbehavior.cbcs.usf.edu/docs/Trauma-Informed-Care_PyramidModel.pdf.

Ormiston, H.E., Nygaard, M.A., & Heck, O.C. (2020). The role of school psychologists in the implementation of trauma-informed multi-tiered systems of support in schools. Journal of Applied School Psychology, 37(4), 319-351. https://doi.org/10.1080/15377903.2020.1848955.

Robles-Ramamurthy, B., Coombs, A.A., Wilson, W., & Vinson, S.Y. (2021). Black children and the pressing need for antiracism in child psychiatry. Journal of the American Academy of Child and Adolescent Psychiatry, 60(4), 432-434.

Sanford, A.K., & Horner, R.H. (2013). Effects of matching instruction difficulty to reading level for students with escape-maintained problem behavior. Journal of Positive Behavior Interventions, 15(2), 79-89.

Smith, S., Ferguson, D., Burak, E.W., Granja, M.R., & Ortuzar, C. (2020). Supporting social-emotional and mental health needs of young children through Part C early intervention: Results of a 50-State survey. National Center for Children in Poverty, Bank Street Graduate School of Education. www.nccp.org/wp-content/uploads/2020/11/Part-C-Report-Final.pdf.

Snell, M.E., Voorhees, M.D., Berlin, R.A., Stanton-Chapman, T.L., Hadden, S., & McCarty, J. (2012). Use of interview and observation to clarify reported practices of Head Start staff concerning problem behavior: For programs and training. Journal of Positive Behavior Interventions, 14, 108-117.

Stephenson, J. (2021, June). Children and teens struggling with mental health during COVID-19 pandemic. In JAMA Health Forum (Vol. 2, No. 6, pp. e211701-e211701). American Medical Association.

Substance Abuse and Mental Health Services Administration. (2014). SAMHSA's concept of trauma and guidance for a trauma-informed approach (HHS Publication No. 14-4884). https://store.samhsa.gov/system/files/sma14-4884.pdf.

Wackerle-Hollman, A., Spencer, T.D., Artman-Meeker, K., Kelley, E.S., Durán, L., & Foster, M.E. (2021). Multi-tiered system of supports in early childhood: Identifying gaps, considerations for application, and solutions. Early Childhood Research Quarterly, 56, 201-212.

West, K.D., Ali, M.M., Schreier, A., & Plourde, E. (2021). Child and Adolescent Mental Health During COVID-19: Considerations for Schools and Early Childhood Providers (Issue Brief). U.S. Department of Health and Human Services, Office of the Assistant Secretary for Planning and Evaluation.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1463 and 1481.

Note: Projects will be awarded and must be operated in a manner consistent with the nondiscrimination requirements contained in the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreement.

Estimated Available Funds: The Administration has requested $49,345,000 for the Technical Assistance and Dissemination to Improve Services and Results for Children with Disabilities program for FY 2022, of which we intend to use an estimated $1,100,000 for this competition. The actual level of funding, if any, depends on final congressional action. However, we are inviting applications to allow enough time to complete the grant process if Congress appropriates funds for this program.

Contingent upon the availability of funds and the quality of applications, we may make additional awards in FY 2023 from the list of unfunded applications from this competition.

Maximum Award: We will not make an award exceeding $1,100,000 for a single budget period of 12 months.

Estimated Number of Awards: 1.

Note: The Department is not bound by any estimates in this notice.

Project Period: Up to 60 months.

III. Eligibility Information

1. Eligible Applicants: State educational agencies; State lead agencies under Part C of the IDEA; local educational agencies (LEAs), including public charter schools that are considered LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application. Under 34 CFR 75.708(e), a grantee may contract for supplies, equipment, and other services in accordance with 2 CFR part 200.

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1” margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(d) Adequacy of resources and quality of project personnel (20 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel.

(ii) The qualifications, including relevant training and experience, of project consultants or subcontractors.

(iii) The adequacy of support, including facilities, equipment, supplies, and other resources, from the applicant organization or the lead applicant organization.

(iv) The relevance and demonstrated commitment of each partner in the proposed project to the implementation and success of the project.

(v) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act for Fiscal Year 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under 34 CFR 75.110, the Department has established a set of performance measures, including long-term measures, that are designed to yield information on various aspects of the effectiveness and quality of the Technical Assistance and Dissemination to Improve Services and Results for Children With Disabilities program. These measures are:

• Program Performance Measure #1: The percentage of Technical Assistance and Dissemination products and services deemed to be of high quality by an independent review panel of experts qualified to review the substantive content of the products and services.

• Program Performance Measure #2: The percentage of Special Education Technical Assistance and Dissemination products and services deemed by an independent review panel of qualified experts to be of high relevance to educational and early intervention policy or practice.

• Program Performance Measure #3: The percentage of all Special Education Technical Assistance and Dissemination products and services deemed by an independent review panel of qualified experts to be useful in improving educational or early intervention policy or practice.

• Program Performance Measure #4: The cost efficiency of the Technical Assistance and Dissemination Program includes the percentage of milestones achieved in the current annual performance report period and the percentage of funds spent during the current fiscal year.

• Long-term Program Performance Measure: The percentage of States receiving Special Education Technical Assistance and Dissemination services regarding scientifically or evidence-based practices for infants, toddlers, children, and youth with disabilities that successfully promote the implementation of those practices in school districts and service agencies.

The measures apply to projects funded under this competition, and grantees are required to submit data on these measures as directed by OSEP.

Grantees will be required to report information on their project's performance in annual and final performance reports to the Department (34 CFR 75.590).

The Department will also closely monitor the extent to which the products and services provided by the Center meet needs identified by stakeholders and may require the Center to report on such alignment in their annual and final performance reports.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary, Delegated the authority to perform the functions and duties of the Assistant Secretary for the Office of Special Education and Rehabilitative Services.

[FR Doc. 2022-00965 Filed 1-19-22; 8:45 am]

BILLING CODE 4000-01-P